DEPARTMENT OF COMMERCE

National Oceanic and Atmospheric Administration

Review of Nomination for Chumash Heritage National Marine Sanctuary

AGENCY: Office of National Marine Sanctuaries (ONMS), National Ocean Service (NOS), National Oceanic and Atmospheric Administration (NOAA), Department of Commerce (DOC).

ACTION: Notice.

SUMMARY: In May 2020, the Office of National Marine Sanctuaries (ONMS) of the National Oceanic and Atmospheric Administration (NOAA) requested written comments to facilitate ONMS review of the nomination for Chumash Heritage National Marine Sanctuary (CHNMS). NOAA requested relevant information as it pertains to the 11 national significance criteria and management considerations that NOAA applied to evaluate the CHNMS nomination for inclusion in the national inventory of areas that NOAA may be considered for future designation as a national marine sanctuary. NOAA has synthesized the information gathered through the public process, completed an internal analysis, and the ONMS Director has determined that the CHNMS nomination will remain in the inventory until at least October 5, 2025.

DATES: This determination is effective on October 5, 2020.

ADDRESSES: William Douros Regional Director, ONMS West Coast Region, 99 Pacific Street, Bldg. 100F, Monterey, CA 93940, or at william.douros@noaa.gov, or 831-647-6452.

FOR FURTHER INFORMATION CONTACT: William Douros Regional Director, ONMS West Coast Region, 99 Pacific Street, Bldg. 100F, Monterey, CA 93940, or at william.douros@noaa.gov, or 831-647-6452.

SUPPLEMENTARY INFORMATION:

Background Information

In 2014, NOAA issued a final rule establishing the sanctuary nomination process (SNP), a process by which communities may submit nominations of areas of the marine and Great Lakes environment for NOAA to consider for designation as a national marine sanctuary (79 FR 33851). The final rule establishing the SNP included a five year limit on any nomination added to the inventory that NOAA does not advance for designation. The nomination for CHNMS was accepted to the national inventory on October 5, 2015, and was scheduled to expire in October 2020.

In November 2019, NOAA issued a notice (84 FR 61546) to clarify procedures for evaluating and updating a nomination as it approaches the five-year mark. The clarified procedure is intended to ensure the inventory contains nominations that remain relevant and responsive to the 11 SNP national significance criteria and management considerations (“SNP Criteria”). The 11 SNP Criteria can be found at https://nominate.noaa.gov. The process to update a nomination about to expire at the five-year mark includes the following steps:

1. ONMS notifies the nominating party at about the four and a half-year mark to give the nominating party an opportunity to provide updates of the nominated area's relevance to the SNP Criteria.

2. ONMS staff work with partners and the public to gather information on the nomination's relevance to the SNP Criteria.

3. ONMS staff review information received from the original nominating party, partners, the public and other relevant sources against the SNP Criteria to assess if the nomination is still accurate and relevant.

4. ONMS staff produce a brief synopsis report to the ONMS Director, presenting an analysis of information that has been collected, and a recommendation regarding maintaining the nomination in the inventory, or removing it once the five-year anniversary is reached.

On May 4, 2020, NOAA issued a request for public comments on this nomination (85 FR 26443). NOAA requested relevant information pertaining to the 11 SNP Criteria that NOAA applied to evaluate the CHNMS nomination for inclusion in the national inventory of areas that NOAA may consider for future designation as a national marine sanctuary. NOAA also hosted a virtual public meeting on May 27, 2020. A total of 14,358 public comments were received during this public process. Comments can be found at regulations.gov (search for document number NOAA-NOS-2020-0063-0001). In analyzing these comments, particular attention was given to new scientific information about the national significance of natural and cultural resources, as well as increases or decreases in the threats to resources originally proposed for protection, and changes to the management framework of the area. NOAA also assessed the level of community-based support for the nomination from a broad range of interests.

NOAA reviewed information provided regarding the nomination's merit for remaining on the inventory after five years, and has determined that new information shows: There are still significant threats to the area; it is still an area of national significance, and there is still broad community support for the nomination remaining on the inventory of possible designations, among other criteria that the nomination still continues to meet. Therefore, the ONMS Director has determined the nomination for the CHNMS should remain on the inventory. NOAA is not proposing to designate CHNMS or any other any new national marine sanctuary with this action. This notice serves to inform the public of this decision to extend the nomination on the inventory.

I. Classification

A. National Environmental Policy Act

NOAA determined that because this action is a notice of an administrative nature, and does not designate any new national marine sanctuaries, it meets the definition in Appendix E of the NOAA NEPA Companion Manual under categorical exclusion reference number G7 “Preparation of policy directives, rules, regulations, and guidelines of an administrative, financial, legal, technical, or procedural nature, or for which the environmental effects are too broad, speculative or conjectural to lend themselves to meaningful analysis and will be subject later to the NEPA process, either collectively or on a case-by-case basis.” In considering the list of extraordinary circumstances, NOAA determined that none would be triggered by this action. Therefore, NOAA determined that this action would not result in significant effects to the human environment and is categorically excluded from the need for further review under NEPA. Should NOAA decide to designate a national marine sanctuary, each national marine sanctuary designation will be subject to case-by-case analysis as required under NEPA and section 304(a)(2)(A) of the NMSA. This NEPA determination was prepared using the 2020 CEQ NEPA Regulations. The effective date of the 2020 CEQ NEPA Regulations was September 14, 2020, and reviews begun after this date are required to apply the 2020 regulations unless there is a clear and fundamental conflict with an applicable statute. 85 FR at 43372-73 (§§ 1506.13, 1507.3(a)).

B. Paperwork Reduction Act

Notwithstanding any other provisions of the law, no person is required to respond to, nor shall any person be subject to a penalty for failure to comply with a collection of information subject to the requirements of the Paperwork Reduction Act (PRA), 44 U.S.C. 3501 et seq., unless that collection of information displays a currently valid Office of Management and Budget (OMB) control number. Nominations for national marine sanctuaries discussed in this notice involve a collection-of-information requirement subject to the requirements of the PRA. OMB has approved this collection-of-information requirement under OMB control number 0648-0682.

(Authority: 16 U.S.C. 1431 et seq.)

John Armor,
Director, Office of National Marine Sanctuaries, National Ocean Service, National Oceanic and Atmospheric Administration.

[FR Doc. 2020-21664 Filed 9-30-20; 8:45 am]

BILLING CODE 3510-NK-P